DEPARTMENT OF ENERGY

Federal Energy Regulatory Commission

[Docket No. CD22-7-000]

Springfield Water and Sewer Commission; Notice of Preliminary Determination of a Qualifying Conduit Hydropower Facility and Soliciting Comments and Motions To Intervene

On May 17, 2022, the Springfield Water and Sewer Commission, filed a notice of intent to construct a qualifying conduit hydropower facility, pursuant to section 30 of the Federal Power Act (FPA). The existing Cobble Mountain Hydroelectric Station Project has an installed capacity of 33 megawatts (MW) and is located at the end of the applicant's Cobble Mountain power tunnel in Granville, Hampden County, Massachusetts.¹

¹ The Commission, in a November 30, 1988 Order Finding Licensing of Hydroelectric Project Not Required, found that the entire Cobble Mountain Project was built before 1935, does not occupy any public lands or reservations of the United States, and does not use surplus water or waterpower from a federal government dam. City of Springfield, MA, 45 FERC ¶ 62,178 (1988). The Cobble Mountain Hydroelectric Station Project is a component of the project addressed in that order.

Applicant Contact: Michael A. Swiger, Van Ness Feldman, LLP, 1050 Thomas Jefferson Street NW, Washington, DC 20007, 202-298-1891, mas@vnf.com.

FERC Contact: Christopher Chaney, 202-502-6778, christopher.chaney@ferc.gov.

Qualifying Conduit Hydropower Facility Description: The project consists of: (1) the approximately 72-feet-long by 53-feet-wide Cobble Mountain Hydroelectric Station, containing three vertical Francis units with a combined capacity of 33 MW; (2) three steel penstocks of varying lengths, but approximately 600 feet long; and (3) appurtenant facilities. The proposed project would have an estimated annual generation of approximately 20,000 megawatt-hours.

The project discharges water to the Little River, a natural body of water. Because a portion of the discharge would not be withdrawn downstream by part of the same water supply system, the applicant requests waiver of the discharge requirement under 18 CFR 4.30(b)(30)(iv).

The applicant states that it has no current plans for future units. As the units continue to age, it will evaluate the costs and benefits of maintaining the existing units or possible replacement.²

² Application at 6.

A qualifying conduit hydropower facility is one that is determined or deemed to meet all the criteria shown in the table below.

Table 1—Criteria for Qualifying Conduit Hydropower Facility
Statutory provision | Description | Satisfies (Y/N)
FPA 30(a)(3)(A) | The conduit the facility uses is a tunnel, canal, pipeline, aqueduct, flume, ditch, or similar manmade water conveyance that is operated for the distribution of water for agricultural, municipal, or industrial consumption and not primarily for the generation of electricity | Y
FPA 30(a)(3)(C)(i) | The facility is constructed, operated, or maintained for the generation of electric power and uses for such generation only the hydroelectric potential of a non-federally owned conduit | Y
FPA 30(a)(3)(C)(ii) | The facility has an installed capacity that does not exceed 40 megawatts | Y
FPA 30(a)(3)(C)(iii) | On or before August 9, 2013, the facility is not licensed, or exempted from the licensing requirements of Part I of the FPA | Y

Preliminary Determination: The Cobble Mountain Hydroelectric Station Project is an existing project. However, as noted above, it has not been licensed or exempted from the licensing requirements of Part I of the FPA, is under 40 MW, and does not alter the primary purpose of the conduit, which is to transport potable water for municipal use. Therefore, based upon the above criteria, if the requested discharge requirement waiver is granted, Commission staff preliminarily determines that the operation of the project described above satisfies the requirements for a qualifying conduit hydropower facility, which is not required to be licensed or exempted from licensing. However, at such time as the applicant plans modifications to the existing project, it would need to reapply for a determination that the project satisfies the requirements for a qualifying conduit hydropower facility.

Comments and Motions to Intervene: Deadline for filing comments contesting whether the facility meets the qualifying criteria is 30 days from the issuance date of this notice. Deadline for filing motions to intervene is 30 days from the issuance date of this notice.

Anyone may submit comments or a motion to intervene in accordance with the requirements of Rules of Practice and Procedure, 18 CFR 385.210 and 385.214. Any motions to intervene must be received on or before the specified deadline date for the particular proceeding.

Filing and Service of Responsive Documents: All filings must (1) bear in all capital letters the “COMMENTS CONTESTING QUALIFICATION FOR A CONDUIT HYDROPOWER FACILITY” or “MOTION TO INTERVENE,” as applicable; (2) state in the heading the name of the applicant and the project number of the application to which the filing responds; (3) state the name, address, and telephone number of the person filing; and (4) otherwise comply with the requirements of sections 385.2001 through 385.2005 of the Commission's regulations.³ All comments contesting Commission staff's preliminary determination that the facility meets the qualifying criteria must set forth their evidentiary basis.

³ 18 CFR 385.2001-2005 (2021).

The Commission strongly encourages electronic filing. Please file motions to intervene and comments using the Commission's eFiling system at http://www.ferc.gov/docs-filing/efiling.asp Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, you may send a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, MD 20852. A copy of all other filings in reference to this application must be accompanied by proof of service on all persons listed in the service list prepared by the Commission in this proceeding, in accordance with 18 CFR 385.2010.

Locations of Notice of Intent: The Commission provides all interested persons an opportunity to view and/or print the contents of this document via the internet through the Commission's website at http://www.ferc.gov/docs-filing/elibrary.asp. Enter the docket number (i.e., CD22-7) in the docket number field to access the document. You may also register online at http://www.ferc.gov/docs-filing/esubscription.asp to be notified via email of new filings and issuances related to this or other pending projects. Copies of the notice of intent can be obtained directly from the applicant. For assistance, call toll-free 1-866-208-3676 or email FERCOnlineSupport@ferc.gov. For TTY, call (202) 502-8659.

Dated: June 1, 2022.
Kimberly D. Bose,
Secretary.

[FR Doc. 2022-12217 Filed 6-6-22; 8:45 am]

BILLING CODE 6717-01-P